DEPARTMENT OF AGRICULTURE

Forest Service

Virginia Resource Advisory Committee

AGENCY: Forest Service, USDA.

ACTION: Notice of meeting.

SUMMARY: The Virginia Resource Advisory Committee will meet in Roanoke, Virginia. The committee is authorized under the Secure Rural Schools and Community Self-Determination Act (Pub. L. 110-343) (the Act) and operates in compliance with the Federal Advisory Committee Act. The purpose of the committee is to improve collaborative relationships and to provide advice and recommendations to the Forest Service concerning projects and funding consistent with title II of the Act. The meeting is open to the public. The purpose of the meeting is for the committee to select and prioritize projects for funding.

DATES: The meeting will be held August 12, 2011 from 9 a.m. to 12 noon, and 1 p.m. to 5 p.m. An alternate or additional meeting is planned for August 18, 2011 at 6 p.m., only if needed.

ADDRESSES: The meeting will be held at the George Washington and Jefferson National Forests Supervisor's Office conference room at 5162 Valleypointe Parkway, Roanoke, Virginia 24019. Written comments may be submitted as described under SUPPLEMENTARY INFORMATION.

All comments, including names and addresses when provided, are placed in the record and are available for public inspection and copying. The public may inspect comments received at George Washington and Jefferson National Forest Supervisor's Office. Please call ahead to 540-265-5100 to facilitate entry into the building.

FOR FURTHER INFORMATION CONTACT: Michael Williams, Public Affairs Specialist, Supervisor's Office, 540-265-5173, mrwilliams04@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: Anyone who would like to bring related matters to the attention of the committee may file written statements with the committee staff before or after the meeting. The agenda will include time for people to make oral statements of three minutes or less. Individuals wishing to make an oral statement should request in writing by August 8, 2011 to be scheduled on the agenda. Written comments and requests for time for oral comments must be sent to Michael Williams, Public Affairs, George Washington and Jefferson National Forests Supervisor's Office at 5162 Valleypointe Parkway, Roanoke, Virginia 24019; or by e-mail to mrwilliams04@fs.fed.us, or via facsimile to 540-265-5145.

Dated: July 22, 2011.
Kenneth G. Landgraf,
Acting Forest Supervisor.

[FR Doc. 2011-19201 Filed 7-28-11; 8:45 am]

BILLING CODE 3410-11-P